DEPARTMENT OF HOMELAND SECURITY

Federal Emergency Management Agency

44 CFR Part 67

[Docket No. FEMA-B-1014]

Proposed Flood Elevation Determinations

AGENCY: Federal Emergency Management Agency, DHS.

ACTION: Proposed rule.

SUMMARY: Comments are requested on the proposed Base (1 percent annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or show evidence of having in effect in order to qualify or remain qualified for participation in the National Flood Insurance Program (NFIP). In addition, these elevations, once finalized, will be used by insurance agents, and others to calculate appropriate flood insurance premium rates for new buildings and the contents in those buildings.

DATES: Comments are to be submitted on or before January 28, 2009.

ADDRESSES: The corresponding preliminary Flood Insurance Rate Map (FIRM) for the proposed BFEs for each community are available for inspection at the community's map repository. The respective addresses are listed in the table below.

You may submit comments, identified by Docket No. FEMA-B-1014, to William R. Blanton, Jr., Chief, Engineering Management Branch, Mitigation Directorate, Federal Emergency Management Agency, 500 C Street, SW., Washington, DC 20472, (202) 646-3151, or (e-mail) bill.blanton@dhs.gov.

FOR FURTHER INFORMATION CONTACT: William R. Blanton, Jr., Chief, Engineering Management Branch, Mitigation Directorate, Federal Emergency Management Agency, 500 C Street, SW., Washington, DC 20472, (202) 646-3151 or (e-mail) bill.blanton@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

Comments on any aspect of the Flood Insurance Study and FIRM, other than the proposed BFEs, will be considered. A letter acknowledging receipt of any comments will not be sent.

Administrative Procedure Act Statement. This matter is not a rulemaking governed by the Administrative Procedure Act (APA), 5 U.S.C. 553. FEMA publishes flood elevation determinations for notice and comment; however, they are governed by the Flood Disaster Protection Act of 1973, 42 U.S.C. 4105, and the National Flood Insurance Act of 1968, 42 U.S.C. 4001 et seq., and do not fall under the APA.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation ** | * Elevation in feet (NGVD) + Elevation in feet (NAVD) # Depth in feet above ground: Effective | * Elevation in feet (NGVD) + Elevation in feet (NAVD) # Depth in feet above ground: Modified | Communities affected
Decatur County, Georgia, and Incorporated Areas
Flint River | Approximately 2.4 miles downstream of U.S. Route 27 | None | +90 | Unincorporated Areas of Decatur County, City of Bainbridge.
| Approximately 2.9 miles upstream of Calhoun Street | None | +98
Flint River/Lake Seminole | At the confluence with Butlers Creek | None | +81 | Unincorporated Areas of Decatur County.
| At Georgia/Florida state line | None | +81
Big Slough Tributary | Approximately 1,450 feet downstream of Thomasville Road | None | +105 | Unincorporated Areas of Decatur County, City of Bainbridge.
| Approximately 440 feet downstream of Lake Douglas Road | None | +107
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Bainbridge
Maps are available for inspection at City Hall, 107 Broad Street, Bainbridge, GA 39817.
Unincorporated Areas of Decatur County
Maps are available for inspection at Decatur County Planning Department, 309 Airport Road, Bainbridge, GA 39817.
Seminole County, Georgia, and Incorporated Areas
Chattahoochee River | At Lake Seminole | None | +81 | Unincorporated Areas of Seminole County.
| Approximately 1.6 miles upstream of State Highway 91 | None | +97
Lake Seminole/Spring Creek | Flooding area bound by Cypress Pond Road to the north, Georgia/Florida state line to the west and south, and the Seminole/Decatur county boundary to the east | None | +81 | Unincorporated Areas of Seminole County.
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Unincorporated Areas of Seminole County
Maps are available for inspection at County Courthouse, 200 S. Knox Avenue, Donalsonville, GA 39845.
Vigo County, Indiana, and Incorporated Areas
Sugar Creek | Approximately 2,000 feet downstream of Conrail | None | +469 | Town of West Terre Haute, Unincorporated Areas of Vigo County.
| Approximately 1,280 feet downstream of Conrail | None | +470
Wabash River | Approximately 1,214 feet upstream of Interstate Highway 70 | None | +470 | Town of West Terre Haute, Unincorporated Areas of Vigo County.
| At U.S. Highway 40 | None | +472
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Town of West Terre Haute
Maps are available for inspection at Town Hall, 500 National Avenue, West Terre Haute, IN 47885.
Unincorporated Areas of Vigo County
Maps are available for inspection at County Annex Building, 121 Oak Street, Terre Haute, IN 47807.
Branch County, Michigan, and Incorporated Areas
Cold Creek | Upstream side of Jonesville Road | None | +963 | Township of Girard.
| Approximately 150 feet upstream of Gorbell Road | None | +964
Coldwater River | Upstream side of E Fenn Road | None | +959 | Township of Ovid.
| Approximately 350 feet upstream of E Fenn Road | None | +960
County Drain 40 | Approximately 0.5 mile downstream of S Wood Road | None | +989 | Township of Ovid.
| Downstream side of S Wood Road | None | +990
County Drain 40 | Approximately 0.8 mile north of Dorrance Road and 0.5 mile west of N Fremont Road | None | +981 | Township of Quincy.
| Approximately 0.5 mile north of Dorrance Road and 0.5 mile west of N Fremont Road | None | +981
Craig Lake | Entire shoreline of Craig Lake | None | +927 | Township of Girard.
Little Swan Creek | Downstream side of Lindley Road | None | +872 | Township of Matteson.
| Approximately 0.4 mile upstream of Butz Road | None | +892
| Approximately 1,100 feet downstream of W Colon Rd | None | +892
| Approximately 350 feet upstream of Langwell Road | None | +907
Matteson Lake | Entire shoreline of Matteson Lake | None | +892 | Township of Matteson.
Morrison Lake | Entire shoreline of Morrison Lake | None | +927 | Township of Girard.
Sauk River | Upstream side of Fox Road | None | +983 | Township of Quincy.
| Approximately 50 feet upstream of Fox Road | None | +983
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Township of Girard
Maps are available for inspection at Township Hall, 1009 Marshall Road, Coldwater, MI 49036.
Township of Matteson
Maps are available for inspection at Township Hall, M-86 & Athens Road, Bronson, MI 49028.
Township of Ovid
Maps are available for inspection at Township Hall, 114 West Front Street, Ovid, MI 49036.
Township of Quincy
Maps are available for inspection at Quincy Public Library, 11 North Main Street, Quincy, MI 49082.
Dakota County, Minnesota, and Incorporated Areas
Cannon River | At downstream county boundary with Goodhue County | +801 | +800 | City of Northfield, City of Randolph, Unincorporated Areas of Dakota County.
| At upstream county boundary with Rice County | +895 | +897
Chub Creek | Approximately 1,200 feet upstream of confluence with Cannon Creek | +862 | +864 | City of Randolph, Unincorporated Areas of Dakota County.
| Approximately 500 feet upstream of Hamburg Avenue | None | +969
Chub Lake | Entire shoreline | None | +969 | Unincorporated Areas of Dakota County.
Dutch Creek | At confluence with Chub Creek | None | +957 | Unincorporated Areas of Dakota County.
| Approximately 7,000 feet upstream of 305th Street West | None | +981
Hazelwood Creek | At confluence with Dutch Creek | None | +965 | Unincorporated Areas of Dakota County.
| Approximately 4,875 feet upstream of 280th Street West | None | +1103
Minnesota River | Approximately 2,300 feet upstream of confluence with Mississippi River | None | +714 | City of Burnsville, City of Eagan, City of Mendota Heights.
| At upstream county boundary with Scott County | +719 | +717
Mississippi River | Approximately 16,300 feet downstream of downstream county boundary with Goodhue County | +689 | +688 | City of Hastings, City of Inver Grove Heights, City of Lilydale, City of Mendota, City of Mendota Heights, City of Rosemount, City of South St. Paul, Unincorporated Areas of Dakota County.
| Approximately 10,200 feet upstream of Interstate Highway 35 | None | +714
Mud Creek | At confluence with Chub Creek | None | +920 | Unincorporated Areas of Dakota County.
| Approximately 1,670 feet upstream of 320th Street West | None | +1005
North Branch Chub Creek | At confluence with Chub Creek | None | +896 | Unincorporated Areas of Dakota County.
| Approximately 4,150 feet upstream of intersection of Denmark Avenue/255th Street West | None | +983
North Branch Vermillion River | Approximately 900 feet upstream of confluence with Vermillion River | None | +850 | Unincorporated Areas of Dakota County.
| Approximately 3,150 feet upstream of Station Trail | None | +942
Pine Creek | At county boundary with Goodhue County | None | +862 | Unincorporated Areas of Dakota County.
| Approximately 6,200 feet upstream of Emery Avenue | None | +915
South Branch Vermillion River | Approximately 50 feet downstream of 200th Street East | None | +848 | Unincorporated Areas of Dakota County.
| Approximately 4,970 feet upstream of Denmark Avenue | None | +961
Tributary No. 1 to Chub Creek | At confluence with Chub Creek | None | +900 | Unincorporated Areas of Dakota County.
| Approximately 2,570 feet upstream of Denmark Avenue | None | +943
Tributary No. 1 to North Branch Chub Creek | At confluence with North Branch Chub Creek | None | +897 | Unincorporated Areas of Dakota County.
| At divergence from Tributary No. 1 to Chub Creek | None | +921
Tributary No. 1 to North Branch Vermillion River | At confluence with North Branch Vermillion River | None | +860 | Unincorporated Areas of Dakota County.
| Approximately 3,300 feet upstream of confluence with North Branch Vermillion River | None | +885
Tributary No. 1 to South Branch Vermillion River | At confluence with South Branch Vermillion River | None | +865 | Unincorporated Areas of Dakota County.
| Approximately 3,800 feet upstream of Darkhorse Lane | None | +949
Tributary No. 1 to Vermillion River | At confluence with Vermillion River | +792 | +793 | City of Hastings, Unincorporated Areas of Dakota County.
| Approximately 3,525 feet upstream of 225th Street East | None | +985
Tributary No. 1A to Vermillion River | At confluence with Tributary No. 1 to Vermillion River | None | +805 | Unincorporated Areas of Dakota County.
| Approximately 2,300 feet upstream of Kendel Avenue | None | +816
Tributary No. 1B to Vermillion River | At confluence with Tributary No. 1 to Vermillion River | None | +806 | Unincorporated Areas of Dakota County.
| Approximately 2,760 feet upstream of Knox Path | None | +812
Tributary No. 1C to Vermillion River | At confluence with Tributary No. 1 to Vermillion River | None | +845 | Unincorporated Areas of Dakota County.
| Approximately 2,680 feet upstream of Inga Avenue | None | +869
Tributary No. 2 to Chub Creek | At confluence with Chub Creek | None | +929 | Unincorporated Areas of Dakota County.
| Approximately 1,250 feet upstream of 280th Street West | None | +944
Tributary No. 2 to North Branch Vermillion River | At confluence with North Branch Vermillion River | None | +870 | Unincorporated Areas of Dakota County.
| Approximately 1,750 feet upstream of Blaine Avenue | None | +918
Tributary No. 2 to South Branch Vermillion River | At confluence with South Branch Vermillion River | None | +873 | Unincorporated Areas of Dakota County.
| Approximately 1,240 feet upstream of Blaine Avenue | None | +877
Tributary No. 2 to Trout Brook | At confluence with Trout Brook | None | +869 | Unincorporated Areas of Dakota County.
| Approximately 4,800 feet upstream of 260th Street East | None | +968
Tributary No. 2 to Vermillion River | At confluence with Vermillion River | +826 | +825 | Unincorporated Areas of Dakota County.
| Approximately 1,420 feet upstream of Goodwin Avenue | None | +883
Tributary No. 2A to North Branch Vermillion River | At confluence with Tributary No. 2 to North Branch Vermillion River | None | +894 | Unincorporated Areas of Dakota County.
| Approximately 3,220 feet upstream of confluence with Tributary No. 2 to North Branch Vermillion River | None | +923
Tributary No. 3 to North Branch Vermillion River | At confluence with North Branch Vermillion River | None | +884 | Unincorporated Areas of Dakota County.
| Approximately 2,870 feet upstream of confluence with North Branch Vermillion River | None | +943
Tributary No. 3 to South Branch Vermillion River | At confluence with South Branch Vermillion River | None | +882 | City of Hampton, Unincorporated Areas of Dakota County.
| Approximately 300 feet upstream of Northfield Boulevard | None | +926
Tributary No. 3 to Trout Brook | At confluence with Trout Brook | None | +883 | Unincorporated Areas of Dakota County.
| Approximately 2,740 feet upstream of 240th Street East | None | +1025
Tributary No. 3 to Vermillion River | At confluence with Vermillion River | +829 | +828 | Unincorporated Areas of Dakota County.
| Approximately 9,720 feet upstream of 180th Street East | None | +894
Tributary No. 4 to North Branch Vermillion River | At convergence with North Branch Vermillion River | None | +921 | Unincorporated Areas of Dakota County.
| At divergence from North Branch Vermillion River | None | +930
Tributary No. 4 to South Branch Vermillion River | At confluence with South Branch Vermillion River | None | +888 | Unincorporated Areas of Dakota County.
| Approximately 9,220 feet upstream of confluence with South Branch Vermillion River | None | +904
Tributary No. 4 to Trout Brook | At confluence with Trout Brook | None | +909 | Unincorporated Areas of Dakota County.
| Approximately 1,900 feet upstream of 240th Street East | None | +936
Tributary No. 4 to Vermillion River | At confluence with Vermillion River | +840 | +838 | Unincorporated Areas of Dakota County.
| Approximately 550 feet upstream of 210th Street East | None | +910
Tributary No. 4A to Vermillion River | At confluence with Tributary No. 4 to Vermillion River | None | +854 | Unincorporated Areas of Dakota County.
| Approximately 5,100 feet upstream of confluence with Tributary No. 4 to Vermillion River | None | +908
Tributary No. 5 to South Branch Vermillion River | At confluence with South Branch Vermillion River | None | +899 | Unincorporated Areas of Dakota County.
| Approximately 3,950 feet upstream of confluence with South Branch Vermillion River | None | +913
Tributary No. 5 to Trout Brook | At confluence with Trout Brook | None | +942 | Unincorporated Areas of Dakota County.
| Approximately 2,700 feet upstream of 250th Street East | None | +988
Tributary No. 5 to Vermillion River | At confluence with Vermillion River | +864 | +863 | Unincorporated Areas of Dakota County.
| Approximately 1,500 feet upstream of 170th Street West | None | +934
Tributary No. 5A to Vermillion River | At confluence with Tributary No. 5 to Vermillion River | None | +883 | Unincorporated Areas of Dakota County.
| Approximately 4,560 feet upstream of confluence with Tributary No. 5 to Vermillion River | None | +923
Tributary No. 5B to Vermillion River | At confluence with Tributary No. 5 to Vermillion River | None | +899 | Unincorporated Areas of Dakota County.
| Approximately 2,600 feet upstream of Biscayne Avenue | None | +940
Tributary No. 5C to Vermillion River | At confluence with Tributary No. 5 to Vermillion River | None | +899 | Unincorporated Areas of Dakota County.
| Approximately 3,500 feet upstream of 170th Street West | None | +951
Tributary No. 6 to Vermillion River | At confluence with Vermillion River | +871 | +870 | Unincorporated Areas of Dakota County.
| Approximately 8,700 feet upstream of 210th Street West | None | +890
Tributary No. 6A to Vermillion River | At confluence with Tributary No. 6 to Vermillion River | None | +877 | City of Farmington, Unincorporated Areas of Dakota County.
| Approximately 4,700 feet upstream of 210th Street West | None | +892
Tributary No. 6B to Vermillion River | At confluence with Tributary No. 6 to Vermillion River | None | +879 | Unincorporated Areas of Dakota County.
| Approximately 6,170 feet upstream of confluence with Tributary No. 6 to Vermillion River | None | +887
Trout Brook | Approximately 9,450 feet downstream of 260th Street East | None | +851 | Unincorporated Areas of Dakota County.
| Approximately 3,600 feet upstream of 240th Street East | None | +982
Vermillion River | Approximately 620 feet downstream of Vermillion Street/U.S. Highway 61 | +783 | +781 | City of Farmington, City of Hastings, City of Vermillion, Unincorporated Areas of Dakota County.
| At county boundary with Scott County | +1009 | +1010
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Burnsville
Maps are available for inspection at City Hall, 100 Civic Center Parkway, Burnsville, MN 55337.
City of Eagan
Maps are available for inspection at City Hall, 3830 Pilot Knob Road, Eagan, MN 55122.
City of Farmington
Maps are available for inspection at City Hall, 430 Third Street, Farmington, MN 55024.
City of Hampton
Maps are available for inspection at City Hall, 5320 Lincoln Street, Hampton, MN 55031-0128.
City of Hastings
Maps are available for inspection at City Hall, 101 Fourth Street East, Hastings, MN 55033-1955.
City of Inver Grove Heights
Maps are available for inspection at City Hall, 8150 Barbara Avenue, Inver Grove Heights, MN 55077.
City of Lilydale
Maps are available for inspection at City Hall, 1011 Sibley Memorial Highway, Lilydale, MN 55118-5109.
City of Mendota
Maps are available for inspection at City Hall, 1313 Sibley Memorial Highway, Mendota, MN 55150-0688.
City of Mendota Heights
Maps are available for inspection at City Hall, 1011 Victoria Curve, Mendota Heights, MN 55118.
City of Northfield
Maps are available for inspection at City Hall, 801 Washington Street, Northfield, MN 55057.
City of Randolph
Maps are available for inspection at City Hall, 4365 292nd Street East, Randolph, MN 55065-0068.
City of Rosemount
Maps are available for inspection at City Hall, 2875 145th Street West, Rosemount, MN 55068-4997.
City of South St. Paul
Maps are available for inspection at City Hall, 125 Third Avenue North, South St. Paul, MN 55075.
City of Vermillion
Maps are available for inspection at City Hall, 105 Main Street East, Vermillion, MN 55085-0067.
Unincorporated Areas of Dakota County
Maps are available for inspection at County Administration Center, 1590 Highway 55, Hastings, MN 55033-2343.
Hinds County, Mississippi, and Incorporated Areas
Allen Creek Tributary | 500 Feet Upstream of Hampstead Road | None | +318 | City of Clinton
| 750 Feet Upstream of Woodstone Place. | None | +337
Bakers Creek | At Mount Moriah Road | None | +145 | Unincorporated Areas of Hinds County.
| 250 Feet Upstream of Railroad. | None | +205
Bakers Creek Tributary 1 | 9,200 Feet Upstream of Confluence with Bakers Creek | None | +151 | Unincorporated Areas of Hinds County.
| 12,000 Feet Upstream of Confluence with Bakers Creek | None | +157
Bakers Creek Tributary 2-1 | 1,050 Feet Upstream of Confluence with Bakers Creek Tributary 2 | None | +262 | Unincorporated Areas of Hinds County.
| 5,200 Feet Upstream of Confluence with Bakers Creek Tributary 2 | None | +288
Big Black River | 4,600 Feet Upstream of Confluence with Fourteenmile Creek | None | +118 | Unincorporated Areas of Hinds County.
| 1,600 Feet Upstream of Confluence with Bogue Falia Creek | None | +154
Big Creek | 150 Feet Upstream of State HWY 18 | None | +362 | Unincorporated Areas of Hinds County.
| 1,150 Feet Upstream of State HWY 18 | None | +364
Big Creek Tributary 1 | 300 Feet Upstream of Terry Road | None | +268 | Unincorporated Areas of Hinds County.
| 6,700 Feet Upstream of Gary Road | None | +310
Bitter Creek | 200 Feet Downstream of Learned Oakley Road | None | +178 | Town of Learned, Unincorporated Areas of Hinds County.
| 8,000 Feet Upstream of Learned Oakley Road | None | +195
Bogue Chitto Creek | At County Boundary | None | +193 | Unincorporated Areas of Hinds County.
| 3,200 Feet Downstream of Natchez Trace Parkway | None | +246
| 400 Feet Upstream of U.S. HWY 49 | None | +284
| 50 Feet Downstream of Hilda Road | None | +320
Bogue Chitto Creek Tributary 10 | 4,500 Feet Upstream of Confluence with Bogue Chitto Creek | None | +210 | Unincorporated Areas of Hinds County.
| 9,900 Feet Upstream of Confluence with Bogue Chitto Creek | None | +215
Bogue Chitto Creek Tributary 11 | 3,600 Feet Upstream of Confluence with Bogue Chitto Creek | None | +200 | Unincorporated Areas of Hinds County.
| 5,150 Feet Upstream of Confluence with Bogue Chitto Creek | None | +213
Bogue Chitto Creek Tributary 12 | 3,400 Feet Downstream of Carsley Road | None | +200 | Unincorporated Areas of Hinds County.
| 1,000 Feet Upstream of Carsely Road | None | +223
Bogue Chitto Creek Tributary 13 | 2,800 Feet Upstream of Carsley Road | None | +198 | Unincorporated Areas of Hinds County.
| 100 Feet Upstream of Carsley Road | None | +213
Bogue Chitto Creek Tributary 14 | 500 Feet Downstream of Springdale Road | None | +200 | Unincorporated Areas of Hinds County.
| 1,500 Feet Upstream of Springdale Road | None | +211
Bogue Chitto Creek Tributary 15 | 1,525 Feet Downstream of Springdale Road | None | +195 | Unincorporated Areas of Hinds County.
| 200 Feet Downstream of County Boundary | None | +204
Bogue Chitto Creek Tributary 2 | 3,400 Feet Upstream of Confluence with Bogue Chitto Creek | None | +261 | Unincorporated Areas of Hinds County.
| 300 Feet Downstream of Northside Drive | None | +272
Bogue Chitto Creek Tributary 3 | 1,500 Feet Upstream of Confluence with Bogue Chitto Creek | None | +268 | Unincorporated Areas of Hinds County.
| 3,700 Feet Upstream of Confluence with Bogue Chitto Creek | None | +281
Bogue Chitto Creek Tributary 4 | 600 Feet Downstream of Confluence with Bogue Chitto Creek | None | +275 | Unincorporated Areas of Hinds County.
| 3,250 Feet Upstream of Northside Drive | None | +330
Bogue Chitto Creek Tributary 5 | 275 Feet Upstream of Northside Drive | None | +283 | Unincorporated Areas of Hinds County.
| 100 Feet Upstream of Richardson Road | None | +289
Bogue Chitto Creek Tributary 6 | 1,200 Feet Upstream of Confluence with Bogue Chitto Creek | None | +293 | Unincorporated Areas of Hinds County.
| 4,850 Feet Upstream of Confluence with Bogue Chitto Creek | None | +324
Bogue Chitto Creek Tributary 6-1 | 375 Feet Upstream of Confluence with Bogue Chitto Creek Tributary 6 | None | +302 | Unincorporated Areas of Hinds County.
| 1,350 Feet Upstream of Confluence with Bogue Chitto Creek Tributary 6 | None | +310
Bogue Chitto Creek Tributary 7 | 1,100 Feet Upstream of Confluence with Bogue Chitto Creek | None | +244 | Unincorporated Areas of Hinds County.
| 300 Feet Upstream of U.S. HWY 49 | None | +286
Bogue Chitto Creek Tributary 8 | 1,300 Feet Upstream of Confluence with Bogue Chitto Creek | None | +236 | Unincorporated Areas of Hinds County.
| 7,300 Feet Upstream of County Line Road | None | +290
Bogue Chitto Creek Tributary 8-1 | 1,450 Feet Upstream of Confluence with Bogue Chitto Creek Tributary 8 | None | +257 | Unincorporated Areas of Hinds County.
| 250 Feet Upstream of U.S. HWY 49 | None | +275
Bogue Chitto Creek Tributary 9 | 5,500 Feet Upstream of Confluence with Bogue Chitto Creek | None | +222 | Unincorporated Areas of Hinds County.
| 6,500 Feet Upstream of Railroad | None | +305
Bogue Chitto Creek Tributary 9-1 | 1,700 Feet Downstream of U.S. HWY 49 | None | +228 | Unincorporated Areas of Hinds County.
| 700 Feet Upstream of Golf Club Road | None | +247
Bogue Chitto Creek Tributary 9-2 | 1,600 Feet Downstream of MacLean Road | None | +247 | Unincorporated Areas of Hinds County.
| 2,400 Feet Upstream of MacLean Road | None | +256
Bogue Chitto Creek Tributary 9-3 | 1,000 Feet Upstream of MacLean Road | None | +258 | Unincorporated Areas of Hinds County.
| 4,850 Feet Upstream of Railroad | None | +291
Bogue Chitto Creek Tributary 9-4 | 500 Feet Downstream of Billy Bell Road | None | +273 | Unincorporated Areas of Hinds County.
| 5,700 Feet Upstream of Railroad | None | +322
Chestnut Creek Tributary 1 | 200 Feet Downstream of County Boundary | None | +269 | Unincorporated Areas of Hinds County.
| 3,150 Feet Upstream of County Boundary | None | +288
Chestnut Creek Tributary 3 | At County Boundary | None | +291 | Unincorporated Areas of Hinds County.
| 4,500 Feet Upstream of County Boundary | None | +306
Fleetwood Creek | 400 Feet Downstream of I-20 | None | +202 | Unincorporated Areas of Hinds County.
| 2,400 Feet Upstream of Confluence with Fleetwood Creek Tributary 4 | None | +248
Fleetwood Creek Tributary 1 | 1,700 Feet Upstream of Confluence with Fleetwood Creek | None | +221 | Unincorporated Areas of Hinds County.
| 7,900 Feet Upstream of Confluence with Fleetwood Creek | None | +240
Fleetwood Creek Tributary 2 | 2,250 Feet Upstream of Confluence with Fleetwood Creek | None | +228 | Unincorporated Areas of Hinds County.
| 350 Feet Upstream of Private Farm Road | None | +250
Fleetwood Creek Tributary 3 | 1,250 Feet Upstream of Confluence with Fleetwood Creek | None | +229 | Unincorporated Areas of Hinds County.
| 7,900 Feet Upstream of Confluence with Fleetwood Creek | None | +256
Fleetwood Creek Tributary 4 | 200 Feet Upstream of Confluence with Fleetwood Creek | None | +242 | Unincorporated Areas of Hinds County.
| 3,600 Feet Upstream of Confluence with Fleetwood Creek | None | +254
Fourteenmile Creek | 9,450 Feet Downstream of Newman Road | None | +119 | Unincorporated Areas of Hinds County.
| 400 Feet Upstream of Old Port Gibson Road | None | +226
Fourteenmile Creek Tributary 1 | 650 Feet Downstream of Smith Station Road | None | +135 | Unincorporated Areas of Hinds County.
| 10,650 Feet Upstream of Smith Station Road | None | +157
Fourteenmile Creek Tributary 2 | 1,800 Feet Downstream of U.S. HWY 18 | None | +224 | Unincorporated Areas of Hinds County.
| 1,400 Feet Downstream of Dry Grove Road | None | +252
French Creek Tributary 1 | 1,550 Feet Downstream of U.S. HWY 80 | None | +301 | City of Clinton.
| 1,700 Feet Upstream of U.S. HWY 80 | None | +316
French Creek Tributary 2 | 1,100 Feet Upstream of Confluence with French Creek Tributary 1 | None | +302 | City of Clinton.
| 50 Feet Upstream of Clinton Blvd | None | +329
French Creek Tributary 3 | 1,450 Feet Upstream of Confluence with French Creek | None | +300 | City of Clinton, City of Jackson.
| 3,450 Feet Upstream of Confluence with French Creek | None | +308
French Creek Tributary 4 | 1,600 Feet Upstream of Confluence with French Creek | None | +309 | City of Jackson.
| 1,700 Feet Upstream of Norman Road | None | +339
French Creek Tributary 5 | 300 Feet Upstream of HWY 80 | None | +326 | City of Jackson.
| 1,000 Feet Upstream of HWY 80 | None | +327
Hanging Moss Creek Tributary 1 | 1,100 Feet Upstream of Confluence with Hanging Moss Creek | None | +328 | City of Jackson, Unincorporated Areas of Hinds County.
| 3,200 Feet Upstream of Confluence with Hanging Moss Creek | None | +338
Hanging Moss Creek Tributary 2 | 400 Feet Downstream of Graven Road | None | +338 | Unincorporated Areas of Hinds County.
| 3,500 Feet Upstream of Graven Road | None | +355
Hanging Moss Creek Tributary 3 | 500 Feet Upstream of Confluence with Hanging Moss Creek | None | +334 | Unincorporated Areas of Hinds County.
| 4,900 Feet Upstream of Confluence with Hanging Moss Creek | None | +355
Hanging Moss Creek Tributary 5-1 | 250 Feet Downstream of Beasley Road | None | +314 | City of Jackson.
| 950 Feet Upstream of Westwind Road | None | +344
Harris Creek | 6,700 Feet Upstream of Old HWY 51 | None | +280 | Unincorporated Areas of Hinds County.
| 6,500 Feet Upstream of Stubbs Road | None | +333
Harris Creek Tributary 1 | 700 Feet Upstream of Confluence with Harris Creek | None | +301 | Unincorporated Areas of Hinds County.
| 6,700 Feet Upstream of Green Gable Road | None | +333
Jackson Creek | 5,500 Feet Upstream of Confluence with Bakers Creek | None | +150 | Unincorporated Areas of Hinds County.
| 2,200 Feet Upstream of U.S. HWY 467 | None | +204
Limekiln Creek | 7,100 Feet Upstream of Confluence with Bakers Creek | None | +204 | Unincorporated Areas of Hinds County.
| At County Boundary | None | +245
Limekiln Creek Tributary 1 | 4,100 Feet Upstream of Confluence with Limekiln Creek | None | +211 | Unincorporated Areas of Hinds County.
| 14,800 Feet Upstream of Confluence with Limekiln Creek | None | +236
Limekiln Creek Tributary 1-1 | 2,000 Feet Downstream of Stigger Road | None | +214 | Unincorporated Areas of Hinds County.
| 6,800 Feet Upstream of Stigger Road | None | +233
Limekiln Creek Tributary 2 | 400 Feet Downstream of U.S. HWY 49 | None | +219 | Unincorporated Areas of Hinds County.
| 2,900 Feet Upstream of Confluence with Limekiln Creek Tributary 2-1 | None | +242
Limekiln Creek Tributary 2-1 | 100 Feet Downstream of Railroad | None | +234 | Unincorporated Areas of Hinds County.
| 400 Feet Upstream of Lanewood Road | None | +258
Limekiln Creek Tributary 3 | 4,000 Feet Upstream of Confluence with Limekiln Creek | None | +226 | Unincorporated Areas of Hinds County.
| 300 Feet Downstream of County Boundary | None | +236
Lindsey Creek | 600 Feet Downstream of Norrell Road | None | +244 | City of Clinton, Unincorporated Areas of Hinds County.
| 700 Feet Upstream of Natchez Trace Parkway | None | +270
| 550 Feet Downstream of Neal Street | None | +312
| 200 Feet Upstream of Oak Hill Circle | None | +330
Lindsey Creek Tributary 1 | 4,350 Feet Upstream of Confluence with Lindsey Creek | None | +245 | Unincorporated Areas of Hinds County.
| 5,900 Feet Upstream of Confluence with Lindsey Creek | None | +258
Lindsey Creek Tributary 3 | 2,000 Feet Upstream of Confluence with Lindsey Creek | None | +277 | Unincorporated Areas of Hinds County.
| 150 Feet Upstream of I-20 | None | +295
Little Bakers Creek | 1,100 Feet Downstream of Private Farm Road | None | +213 | Town of Bolton, Unincorporated Areas of Hinds County.
| 200 Feet Upstream of Railroad | None | +281
Little Bakers Creek Tributary 1 | 1,800 Feet Upstream of Confluence with Little Bakers Creek | None | +220 | Unincorporated Areas of Hinds County.
| 2,600 Feet Upstream of I-20 | None | +239
Little Bakers Creek Tributary 2 | 700 Feet Upstream of Confluence with Little Bakers Creek | None | +230 | Unincorporated Areas of Hinds County.
| 5,400 Feet Upstream of Confluence with Little Bakers Creek | None | +262
Little Bakers Creek Tributary 3 | 400 Feet Upstream of Williamson Road | None | +254 | Unincorporated Areas of Hinds County.
| 900 Feet Upstream of I-20 | None | +268
Little Bakers Creek Tributary 3-1 | 500 Feet Upstream of Williamson Road | None | +254 | Unincorporated Areas of Hinds County, City of Clinton.
| 4,250 Feet Upstream of Williamson Road | None | +280
Little Bakers Creek Tributary 4 | 1,500 Feet Upstream of Confluence with Little Bakers Creek | None | +254 | Unincorporated Areas of Hinds County.
| 5,900 Feet Upstream of Confluence with Little Bakers Creek | None | +270
Little Bakers Creek Tributary 5 | 950 Feet Upstream of Confluence with Little Bakers Creek | None | +268 | City of Clinton.
| 2,700 Feet Upstream of Confluence with Little Bakers Creek | None | +280
Little Bakers Creek Tributary 6 | 500 Feet Upstream of Confluence with Little Bakers Creek | None | +271 | City of Clinton.
| 1,500 Feet Upstream of Railroad | None | +291
Little Creek | 400 Feet Downstream of Flowers Road | None | +310 | Unincorporated Areas of Hinds County.
| 100 Feet Upstream of Flowers Road | None | +310
Lynch Creek | 150 Feet Downstream of Bonita Drive | *362 | +355 | City of Jackson.
| 300 Feet Downstream of Flag Chapel Road | *366 | +363
| 1,350 Feet Upstream of Flag Chapel Road | None | +377
Lynch Creek Tributary 5-1 | 1,050 Feet Upstream of Confluence with Lynch Creek | None | +335 | City of Jackson.
| 4,150 Feet Upstream of Confluence with Lynch Creek | None | +352
McDonald Creek | 600 Feet Downstream of HWY 18 | None | +212 | Unincorporated Areas of Hinds County.
| 200 Feet Upstream of Dry Grove Road | None | +247
Patrol Creek | 1,000 Feet Upstream of Confluence with Lindsey Creek | None | +268 | City of Clinton.
| 2,900 Feet Upstream of Confluence with Lindsey Creek | None | +268
Pearl River Tributary 1 | 500 Feet Downstream of Railroad | None | +260 | Unincorporated Areas of Hinds County.
| 2,300 Feet Upstream of Railroad | None | +299
Pearl River Tributary 2 | 1,000 Feet Downstream of Railroad | None | +265 | Unincorporated Areas of Hinds County.
| 2,600 Feet Upstream of I-55 | None | +330
Rhodes Creek | 15,000 Feet Upstream of North Siwell Road | None | +391 | Unincorporated Areas of Hinds County.
| 16,000 Feet Upstream of North Siwell Road | None | +396
Rhodes Creek Tributary 1 | 3,150 Feet Upstream of Confluence with Rhodes Creek | None | +258 | Unincorporated Areas of Hinds County.
| 2,000 Feet Upstream of Confluence with Rhodes Creek | None | +271
Rhodes Creek Tributary 4 | 2,800 Feet Upstream of Confluence with Rhodes Creek | None | +275 | Unincorporated Areas of Hinds County.
| 1,150 Feet Upstream of Dac Road | None | +338
Rhodes Creek Tributary 5 | 2,300 Feet Upstream of Confluence with Rhodes Creek | None | +293 | Unincorporated Areas of Hinds County.
| 3,900 Feet Upstream of Confluence with Rhodes Creek | None | +299
Rhodes Creek Tributary 6 | 2,100 Feet Upstream of Confluence with Rhodes Creek | None | +295 | Unincorporated Areas of Hinds County.
Robertson Creek | 2,800 Feet Upstream of Confluence with Rhodes Creek | None | +299 | Unincorporated Areas of Hinds County.
| 1,900 Feet Upstream of Flowers Road | None | +306
Smith Creek Tributary 4 | 200 Feet Upstream of Wells Road | None | +263 | Unincorporated Areas of Hinds County.
| 5,500 Feet Upstream of Wells Road | None | +312
Snake Creek | 4,000 Feet Upstream of U.S. HWY 18 | None | +283 | Unincorporated Areas of Hinds County.
| 5,600 Feet Upstream of Confluence with Snake Creek Tributary 1 | None | +313
Snake Creek Tributary 1 | 450 Feet Downstream of Midway Road | None | +306 | Unincorporated Areas of Hinds County.
| 1,050 Feet Upstream of Midway Road | None | +317
Straight Fence Creek | 10,500 Feet Upstream of Confluence with Bogue Chitto Creek | None | +203 | Unincorporated Areas of Hinds County.
| 750 Feet Downstream of Williamson Road | None | +241
Straight Fence Creek Tributary 1 | 750 Feet Downstream of McGuffee Road | None | +217 | Unincorporated Areas of Hinds County.
| 200 Feet Downstream of Clinton-Tinnin Road | None | +240
Straight Fence Creek Tributary 1-1 | 700 Feet Downstream of McGuffee Road | None | +217 | Unincorporated Areas of Hinds County.
| 600 Feet Upstream of McGuffee Road | None | +226
Straight Fence Creek Tributary 2 | 800 Feet Downstream of McGuffee Road | None | +217 | Unincorporated Areas of Hinds County.
| 2,000 Feet Upstream of Confluence with Straight Fence Creek Tributary 2-1 | None | +238
Straight Fence Creek Tributary 2-1 | 1,350 Feet Upstream of Confluence with Straight Fence Creek Tributary 2 | None | +235 | Unincorporated Areas of Hinds County.
| 3,400 Feet Upstream of Confluence with Straight Fence Creek Tributary 2 | None | +242
Straight Fence Creek Tributary 3 | 3,800 Feet Upstream of Confluence with Straight Fence Creek | None | +218 | Unincorporated Areas of Hinds County.
| 100 Feet Downstream of Jimmy Williams Road | None | +254
Straight Fence Creek Tributary 3-1 | 300 Feet Upstream of Confluence with Straight Fence Creek Tributary 3 | None | +245 | Unincorporated Areas of Hinds County.
| 2,800 Feet Upstream of McGuffee Road | None | +263
Straight Fence Creek Tributary 4 | 1,000 Feet Upstream of Confluence with Straight Fence Creek | None | +222 | Unincorporated Areas of Hinds County.
| 1,500 Feet Upstream of Noah Johnson Road | None | +247
Straight Fence Creek Tributary 5-1 | 900 Feet Upstream of Confluence with Straight Fence Creek Tributary 5 | None | +246 | Unincorporated Areas of Hinds County.
| 3,050 Feet Upstream of Confluence with Straight Fence Creek Tributary 5 | None | +259
Straight Fence Creek Tributary 6 | 200 Feet Downstream of Williamson Road | None | +252 | Unincorporated Areas of Hinds County.
| 4,300 Feet Upstream of Confluence with Straight Fence Creek Tributary 6-2 | None | +259
Straight Fence Creek Tributary 6-1 | 1,600 Feet Upstream of Confluence with Straight Fence Creek Tributary 6 | None | +245 | Unincorporated Areas of Hinds County.
| 5,350 Feet Upstream of Confluence with Straight Fence Creek Tributary 6 | None | +257
Straight Fence Creek Tributary 6-2 | 400 Feet Upstream of Confluence with Straight Fence Creek Tributary 6 | None | +258 | Unincorporated Areas of Hinds County.
| 1,300 Feet Upstream of Confluence with Straight Fence Creek Tributary 6 | None | +265
Straight Fence Creek Tributary 7 | 1,900 Feet Downstream of Pinehaven Place | None | +264 | City of Clinton, Unincorporated Areas of Hinds County.
| 100 Feet Downstream of Pinehaven Road | None | +285
Stream B | 400 Feet Upstream of Joe Cocker Road | None | +236 | Unincorporated Areas of Hinds County.
| 500 Feet Downstream of County Boundary | None | +263
Stream B Tributary 1 | 1,400 Feet Upstream of Confluence with Stream B | None | +250 | Unincorporated Areas of Hinds County.
| 2,800 Feet Upstream of Confluence with Stream B | None | +260
Stream B Tributary 2 | 200 Feet Downstream of Clincy Road | None | +248 | Unincorporated Areas of Hinds County.
| At County Boundary | None | +258
Straight Fence Creek Tributary 5 | 2,800 Feet Upstream of Confluence with Straight Fence Creek | None | +236 | Unincorporated Areas of Hinds County.
| 6,800 Feet Upstream of Confluence with Straight Fence Creek | None | +274
Terrell Creek | 600 Feet Downstream of Fairchilds Road | None | +169 | Unincorporated Areas of Hinds County.
| 2,000 Feet Upstream of Unnamed Field Road | None | +194
Town Creek | 1,300 Feet Upstream of I-220 | None | +350 | City of Jackson.
| 4,400 Feet Upstream of Forest Road | None | +369
Town Creek Tributary 2 | 100 Feet Upstream of Michael Avalon Street | None | +328 | City of Jackson.
| 700 Feet Upstream of Michael Avalon Street | None | +328
Trahon Creek Tributary 3 | 250 Feet Upstream of Lake Catherine Dam | None | +325 | City of Jackson.
Turkey Creek | 2,000 Feet Downstream of Mt Moriah Road | None | +167 | Unincorporated Areas of Hinds County.
| 4,200 Feet Upstream of U.S. HWY 467 | None | +244
Turkey Creek Tributary 1 | 2,000 Feet Upstream of Confluence with Turkey Creek | None | +206 | Unincorporated Areas of Hinds County.
| 4,200 Feet Upstream of U.S. HWY 467 | None | +235
Turkey Creek Tributary 2 | 5,000 Feet Upstream of Confluence with Turkey Creek | None | +227 | Unincorporated Areas of Hinds County, Town of Terry.
| 4,200 Feet Upstream of Natchez Trace Parkway | None | +245
Twelvemile Creek | 8,000 Feet Upstream of Confluence with Fourteenmile Creek | None | +155 | Unincorporated Areas of Hinds County.
| 3,400 Feet Upstream of Confluence with Fourteenmile Creek | None | +178
Vaughn Creek | 6,500 Feet Downstream of Volley Campbell Road | None | +286 | Town of Terry, Unincorporated Areas of Hinds County.
| 2,800 Feet Upstream of Volley Campbell Road | None | +308
Vaughn Creek Tributary 1 | 4,200 Feet Upstream of Confluence with Vaughn Creek | None | +272 | Unincorporated Areas of Hinds County.
| 300 Feet Upstream of Jack Johnson Road | None | +291
Vaughn Creek Tributary 1-1 | 2,700 Feet Upstream of Confluence with Vaughn Creek Tributary 1 | None | +281 | Unincorporated Areas of Hinds County.
| 3,500 Feet Upstream of Confluence with Vaughn Creek Tributary 1 | None | +285
Vaughn Creek Tributary 3 | 1,600 Feet Upstream of Confluence with Vaughn Creek | None | +292 | Unincorporated Areas of Hinds County.
| 2,000 Feet Upstream of Confluence with Vaughn Creek Tributary 3 | None | +301
| 650 Feet Upstream of Jack Johnson Road | None | +314
| 5,500 Feet Upstream of Confluence with Vaughn Creek Tributary 3 | None | +320
Vaughn Creek Tributary 3-2 | 1,000 Feet Upstream of Confluence with Vaughn Creek Tributary 3 | None | +308 | Unincorporated Areas of Hinds County.
| 150 Feet Upstream of Cassidy Road | None | +317
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Clinton
Maps are available for inspection at Clinton City Hall, 300 Jefferson Street, Clinton, MS 39056.
City of Jackson
Maps are available for inspection at Department of Public Works, 200 South President Street, Jackson, MS 39205.
Town of Bolton
Maps are available for inspection at Bolton Town Hall, 202 Bolton-Raymond Road, Bolton, MS 39041.
Town of Learned
Maps are available for inspection at 521 Cherry Street, Learned, MS 39154.
Town of Terry
Maps are available for inspection at Terry Town Hall, 315 Cunningham Avenue, Terry, MS 39170.
Unincorporated Areas of Hinds County
Maps are available for inspection at Hinds County Permit and Zoning Office, 127 West Main Street, Raymond, MS 39154.
Dutchess County, New York, and Incorporated Areas
East Branch Wappinger Creek Reach 1 | Approximately 665 feet upstream of New York State Route 82 | None | +282 | Town of Washington.
| Approximately 1,529 feet upstream of New York State Route 82 | None | +283
Fishkill Creek | Approximately 300 feet upstream of confluence with Hudson River | +8 | +7 | Town of Beekman, City of Beacon, Town of East Fishkill, Town of Fishkill, Town of Union Vale, Village of Fishkill.
| Just downstream of Clubhouse Lane | +487 | +488
Maritje Kill | Approximately 30 feet upstream of Railroad | +8 | +10 | Town of Hyde Park.
| Approximately 4,230 feet upstream of Crum Elbow Road | None | +252
Rhinebeck Kill | Approximately 1.07 miles upstream of State Route 9G | None | +165 | Town of Red Hook.
| Approximately 1.08 miles upstream of State Route 9G | None | +165
Saw Kill | At Linden Avenue | None | +183 | Village of Red Hook.
| Approximately 937 feet upstream of Linden Avenue | None | +183
Sprout Creek #2 | Approximately 80 feet downstream of County Route 90 | None | +565 | Town of Washington.
| Just upstream of County Route 90 | None | +566
Stony Creek | Approximately 0.55 mile downstream of Mill Street | None | +75 | Town of Red Hook.
| Approximately 0.59 mile downstream of Mill Street | None | +75
Swamp River Reach 1 | At confluence with Tenmile River | +364 | +362 | Town of Dover.
| Approximately 600 feet above confluence with Tenmile River | +366 | +365
Swamp River Reach 2 | Approximately 0.52 mile upstream of Kitchen Road | None | +424 | Town of Dover.
| Approximately 0.59 mile upstream of Kitchen Road | None | +424
Sylan Lake Outlet | At confluence with Fishkill Creek | +294 | +293 | Town of East Fishkill.
| Approximately 950 feet upstream of confluence with Fishkill Creek | +294 | +293
Tenmile River | At county boundary | +287 | +292 | Town of Dover, Town of Amenia.
| Approximately 2,824 feet upstream of Railroad | None | +388
Wells Brook | At confluence with Tenmile River | +375 | +373 | Town of Dover.
| Approximately 800 feet upstream of confluence with Tenmile River | +375 | +374
Whaley Lake Stream | At confluence with Fishkill Creek | +350 | +351 | Town of Beekman.
| Approximately 500 feet upstream of confluence with Fishkill Creek | +350 | +351
Whortlekill Creek Reach 1 | At confluence with Fishkill Creek | +233 | +234 | Town of East Fishkill.
| Approximately 1,800 feet upstream of confluence with Fishkill Creek | +233 | +234
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Beacon
Maps are available for inspection at Beacon City Hall, 1 Municipal Center, Beacon, NY.
Town of Amenia
Maps are available for inspection at Amenia Town Hall, 36B Mechanic Street, Amenia, NY.
Town of Beekman
Maps are available for inspection at Beekman Town Hall, 4 Main Street, Poughquag, NY.
Town of Dover
Maps are available for inspection at Dover Town Hall, 126 East Duncan Hill Road, Dover Plains, NY.
Town of East Fishkill
Maps are available for inspection at East Fishkill Town Hall, 330 Route 376, Hopewell Junction, NY.
Town of Fishkill
Maps are available for inspection at Fishkill Town Hall, 807 Route 52, Fishkill, NY.
Town of Hyde Park
Maps are available for inspection at Hyde Park Town Hall, 4383 Albany Post Road, Hyde Park, NY.
Town of Red Hook
Maps are available for inspection at Red Hook Town Hall, 7340 South Broadway, Red Hook, NY.
Town of Union Vale
Maps are available for inspection at Union Vale Town Hall, 249 Duncan Road, LaGrangeville, NY.
Town of Washington
Maps are available for inspection at Washington Town Hall, 10 Reservoir Drive, Washington, NY.
Village of Fishkill
Maps are available for inspection at Fishkill Village Hall, 1095 Main Street, Fishkill, NY.
Village of Red Hook
Maps are available for inspection at Red Hook Village Hall, 7467 South Broadway, Red Hook, NY.
Hanson County, South Dakota, and Incorporated Areas
James River | 1,050 feet upstream from 262nd St | None | +1215 | Unincorporated Areas of Hanson County.
| 540 feet upstream from Interstate 90 | None | +1223
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Unincorporated Areas of Hanson County
Maps are available for inspection at P.O. Box 500, Alexandria, SD 57311.
Roane County, Tennessee, and Incorporated Areas
Caney Creek | 143 feet downstream of confluence Postoak Creek | None | +746 | Unincorporated Areas of Roane County.
| 2,087 feet upstream of confluence with Tennessee River | +745 | +746
Clinch River | 2,372 feet upstream of confluence with Tennessee River | +746 | +747 | City of Oak Ridge, City of Harriman, Unincorporated Areas of Roane County.
| 964 feet downstream of confluence with Young Creek | +746 | +747
Clinch River | 144 feet downstream of confluence with Caney Creek East | +748 | +748 | Unincorporated Areas of Roane County.
| 6.3 miles upstream up SH 95 | None | +796
Emory River | 1,463 feet upstream of confluence with Clinch River | +746 | +747 | City of Kingston, Unincorporated Areas of Roane County.
| 600 feet upstream of confluence with Swan Pond Creek | +748 | +748
Smith Creek | 3,150 feet upstream of confluence with Tennessee River | +746 | +747 | Unincorporated Areas of Roane County, City of Kingston.
| 411 feet downstream of Paint Rock Ferry Road | +746 | +747
Tennessee River | 5,880 feet downstream of confluence with Caney Creek | +745 | +746 | Unincorporated Areas of Roane County, City of Kingston.
| 1,140 Feet upstream of confluence with Hines Creek | None | +750
Whites Creek | 2.6 miles downstream of confluence with Black Creek | None | +746 | Unincorporated Areas of Roane County.
| 1,900 feet upstream of confluence with Black Creek | None | +791
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Harriman
Maps are available for inspection at 300 North Roane Street, Harriman, TN.
City of Kingston
Maps are available for inspection at 125 West Cumberland, Kingston, TN.
City of Oak Ridge
Maps are available for inspection at 200 S Tulane Avenue, Oak Ridge, TN.
Unincorporated Areas of Roane County
Maps are available for inspection at 200 East Race Street, Kingston, TN.
Potter County, Texas, and Incorporated Areas
Dry Creek | Approximately 500 feet upstream from the intersection with Cliffside Road | None | +3400 | Unincorporated Areas of Potter County, City of Amarillo.
| Approximately 500 feet upstream from the intersection with W 335 North Loop | None | +3428
Dry Creek Overflow | Approximately 500 feet downstream from confluence with Dry Creek | None | +3416 | Unincorporated Areas of Potter County, City of Amarillo.
| Approximately 120 feet north of W 335 North Loop intersection | None | +3437
Playa 21 (T-Anchor Lake) | Approximately 570 feet east of Willow Street and SE 15th Avenue | +3612 | +3616 | City of Amarillo.
Playa Lake 22 | Approximately 3,500 feet north of SE 3rd Avenue and S Whitaker Road intersection | +3588 | +3593 | City of Amarillo.
Playa Lake 24 (Martin Lake) | Approximately 650 feet north of Dale St. and Martin Rd. intersection | +3628 | +3631 | City of Amarillo.
Playa Lake 26 | Approximately 4,600 feet southwest of I-40 and Juett Attebury Road Intersection | +3570 | +3573 | City of Amarillo, Unincorporated Areas of Potter County.
Playa Lake 27 | Approximately 2,000 feet east of NE 18th Avenue and Hacienda Drive intersection | +3545 | +3548 | City of Amarillo.
Playa Lake 28 (Airport Lake) | Approximately 1,350 feet NW of Amarillo Int. Airport runway | +3585 | +3590 | City of Amarillo.
Playa Lake 34 | Approximately 4,600 feet southwest of Highway 287 and S. Parsley Road intersection | None | +3553 | City of Amarillo, Unincorporated Areas of Potter County.
Playa Lake 61 | Approximately 1,100 feet northeast from intersection of Parsley Road and railroad | None | +3596 | City of Amarillo, Unincorporated Areas of Potter County.
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Amarillo
Maps are available for inspection at 509 SE Seventh, Amarillo, TX 79101.
Unincorporated Areas of Potter County
Maps are available for inspection at 500 S. Fillmore, Amarillo, TX 79101.
Randall County, Texas, and Incorporated Areas
Playa 20 (Gooch Lake) | Approximately 5,000 feet south of SE 34th Ave. and S. Manhattan St. intersection | +3574 | +3579 | City of Amarillo.
Playa Lake 11 | Approximately 500 feet south of the intersection of Bell St. and Attebury Dr | None | +3646 | City of Amarillo, Unincorporated Areas of Randall County.
Playa Lake 13 | Approximately 2,500 feet southeast of the intersection of West 335 South LP and Valleyview Drive | None | +3626 | City of Amarillo, Unincorporated Areas of Randall County.
Playa Lake 14 (Diamond Horseshoe Lake) | Approximately 100 feet south of Winners Circle | +3657 | +3658 | City of Amarillo.
Playa Lake 16 | Approximately 350 feet south of S. Hayden and SW 48th Ave. intersection | +3626 | +3633 | City of Amarillo.
Playa Lake 19 | Approximately 1,200 feet east of SW 42nd Ave. and S. Harrison St. intersection | +3633 | +3638 | City of Amarillo.
Playa Lake 4 | W CR 58 and Helium Road intersection | None | +3699 | City of Amarillo, Unincorporated Areas of Randall County.
Playa Lake 5 (McDonald Lake) | Approximately 1,100 feet southeast of S. Coulter St. and SW 45th St. intersection | +3688 | +3687 | City of Amarillo.
Playa Lake 7 | Approximately 100 feet north of W. 77th Ave. and Cody Dr | None | +3675 | City of Amarillo, Unincorporated Areas of Randall County.
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Amarillo
Maps are available for inspection at 509 E. 7th Ave, Amarillo, TX 79105.
Unincorporated Areas of Randall County
Maps are available for inspection at 301 Hwy 60, Canyon, TX 79015.
Barron County, Wisconsin, and Incorporated Areas
Bear Creek | 191 feet downstream of Main Street (Haugen) | None | +1198 | Village of Haugen, Unincorporated Areas of Barron County.
| Just downstream of Bear Lake Dam | None | +1207
Beaver Dam Lake | Entire Shoreline | None | +1233 | City of Cumberland.
Big Moon Lake | Entire Shoreline | None | +1171 | Unincorporated Areas of Barron County.
Buck Lake | Entire Shoreline | None | +1233 | City of Cumberland, Unincorporated Areas of Barron County.
Devils Lake | Entire Shoreline | None | +1262 | Unincorporated Areas of Barron County.
Duck Lake | Entire Shoreline | None | +1236 | City of Cumberland, Unincorporated Areas of Barron County.
Frankenburg Slough | Entire Shoreline | None | +1040 | Village of Cameron.
Granite Lake | Entire Shoreline | None | +1238 | Unincorporated Areas of Barron County.
Lake Montanis | Entire Shoreline | None | +1119 | City of Rice Lake, Unincorporated Areas of Barron County.
Little Sand Lake | Entire Shoreline | None | +1250 | Unincorporated Areas of Barron County.
Lower Turtle Lake | Entire Shoreline | None | +1165 | Unincorporated Areas of Barron County.
Lower/Upper Vermillion Lake | Entire Shoreline | None | +1184 | Unincorporated Areas of Barron County.
Peterson Lake | Entire Shoreline | None | +1189 | Unincorporated Areas of Barron County.
Poskin Lake | Entire Shoreline | None | +1157 | Unincorporated Areas of Barron County.
Red Cedar River | 6,000 feet downstream of State Hwy 48 | +1125 | +1126 | Unincorporated Areas of Barron County.
| Outlet of Red Cedar Lake | None | +1177
Red Cedar River Tributary 16 | Confluence with Red Cedar River | +1113 | +1112 | City of Rice Lake, Unincorporated Areas of Barron County.
| 750 feet upstream of U.S. Hwy 53 | None | +1191
Sand Lake | Entire Shoreline | None | +1226 | Unincorporated Areas of Barron County.
Shallow Lake | Entire Shoreline | None | +1240 | Unincorporated Areas of Barron County.
Silver Lake | Entire Shoreline | None | +1258 | Unincorporated Areas of Barron County.
Tuscobia Lake/Stump Lake | Entire Shoreline | None | +1129 | Unincorporated Areas of Barron County.
Upper Turtle Lake | Entire Shoreline | None | +1174 | Unincorporated Areas of Barron County.
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Cumberland
Maps are available for inspection at 1356 2nd Ave, Cumberland, WI 54829.
City of Rice Lake
Maps are available for inspection at 30 E Eau Claire St, Rice Lake, WI 54868.
Unincorporated Areas of Barron County
Maps are available for inspection at 330 East LaSalle Avenue, Barron, WI 54812.
Village of Cameron
Maps are available for inspection at 300 North First Street, Cameron, WI 54822.
Village of Haugen
Maps are available for inspection at 104 West 3rd Street, Haugen, WI 54841.

(Catalog of Federal Domestic Assistance No. 97.022, “Flood Insurance.”)

Dated: October 22, 2008.
Michael K. Buckley,
Acting Assistant Administrator, Mitigation Directorate, Department of Homeland Security, Federal Emergency Management Agency.

[FR Doc. E8-25878 Filed 10-29-08; 8:45 am]

BILLING CODE 9110-12-P